DEPARTMENT OF TRANSPORTATION

Pipeline and Hazardous Materials Safety Administration

Office of Hazardous Materials Safety; Notice of Applications for Modification of Special Permit

AGENCY: Pipeline and Hazardous Materials Safety Administration, DOT.

ACTION: List of Applications for Modification of Special Permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g., to provide for additional hazardous materials, packaging design changes, additional mode of transportation, etc.) are described in footnotes to the application number. Application numbers with the suffix “M” denote a modification request. These applications have been separated from the new application for special permits to facilitate processing.

DATES: Comments must be received on or before August 3, 2006.

Address Comments to: Record Center, Pipeline and Hazardous Materials Safety Administration, U.S. Department of Transportation, Washington, DC 20590.

Comments should refer to the application number and be submitted in triplicate. If Confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for modification of special permit is published in accordance with part 107 of the Federal hazardous materials transportation law (49 U.S.C. 5117(b); 49 CFR 1.53(b)).

Issued in Washington, DC, on July 13, 2006.
R. Ryan Posten,
Chief, Special Permits Program, Office of Hazardous Materials, Special Permits & Approvals.

Modification Special Permits
Application No. | Docket No. | Applicant | Regulation(s) affected | Modification of special permit | Nature of special permit thereof
10785-M |  | Thermo Electron Corporation, Sugar Land, TX | 49 CFR 173.301(a)(1); 173.302a, 175.3 | 10785 | To modify the special permit to authorize the transportation in commerce of a Division 2.2 material in non-DOT specification packaging.
11447-M |  | SAES Pure Gas, Inc., San Luis Obispo, CA | 49 CFR 173.187 | 11447 | To modify the special permit to authorize the transportation in commerce of certain Division 4.1 materials in two (2) additional non-DOT specification packagings.
11513-M |  | ATK Thiokol, Brigham City, UT | 49 CFR 172.101 | 11513 | To modify the special permit to authorize transportation of additional Class 1 propellant samples, and wet cut propellant in non-DOT specification containers.
11579-M |  | Austin Powder Company | 49 CFR 177.848(e)(2); 177.848(g)(3) | 11579 | To modify the special permit to authorize the transportation of additional Division 1.4, 1.5, 5.1, & Combustible materials and the use of several DOT Specification and non-DOT specification bulk packagings.
12247-M | RSPA-99-5490 | Weldship Corporation, Bethlehem, PA | 49 CFR 172.301; 173.302a(b)(2), (b)(3) and (b)(4); 180.205(c) and (g) and 180.209(a) | 12247 | To modify the special permit to authorize ultrasonic testing of DOT-SP 9001, 9370, 9421, 9706, 9791, 9909, 10047, 10869, and 11692 cylinders.
12274-M | RSPA-99-5707 | Snow Peak, Inc., Clackamas, OR | 49 CFR 173.304a(d)(3)(ii) | 12274 | To modify the special permit to authorize the transportation in commerce of an additional Division 2.1 material in non-DOT specification nonrefillable inside containers.
12844-M | RSPA-01-10753 | Delphi Corporation, Vandalia, OH | 49 CFR 173.301(a)(1); 173.302a(a)(1); 175.3 | 12844 | To modify the special permit to authorize a higher maximum service pressure for non-DOT specification pressure vessels used as components of automobile vehicle safety systems.
12879-M | RSPA-01-11095 | Rohm and Haas Company, Philadelphia, PA | 49 CFR 172.514 | 12879 | To modify the special permit to authorize the transportation in commerce of portable tanks and IBCs containing combustible liquids without required placards.
14321-M | PHMSA-06-23987 | Luxfer, Riverside, CA | 49 CFR 173.302a, 173.304a, 180.205 | 14321 | To convert the special permit that was originally issued on an emergency basis to a permanent special permit.

[FR Doc. 06-6326 Filed 7-18-06; 8:45 am]

BILLING CODE 4909-60-M